INTERNATIONAL TRADE COMMISSION

[Investigation No. 332-489]

U.S. Agricultural Sales to Cuba: Certain Economic Effects of U.S. Restrictions

AGENCY: United States International Trade Commission.

ACTION: Institution of investigation and scheduling of public hearing.

SUMMARY: Following receipt of a request on March 16, 2007, from the Committee on Finance of the United States Senate (Committee), the Commission instituted investigation No. 332-489, U.S. Agricultural Sales to Cuba: Certain Economic Effects of U.S. Restrictions, under section 332(g) of the Tariff Act of 1930 (19 U.S.C. 1332(g)).

DATES:

March 30, 2007: Date of institution.

April 24, 2007: Deadline for filing requests to appear at the public hearing.

April 26, 2007: Deadline for filing pre-hearing briefs and statements.

May 1, 2007, 9:30 a.m.: Public hearing.

May 8, 2007: Deadline for written statements, including any post-hearing briefs.

June 29, 2007: Transmittal of report to the Committee on Finance.

ADDRESSES: All Commission offices, including the Commission's hearing rooms, are located in the United States International Trade Commission Building, 500 E Street, SW., Washington, DC. All written submissions, including requests to appear at the hearing, statements, and briefs, should be addressed to the Secretary, United States International Trade Commission, 500 E Street, SW., Washington, DC 20436. The public record for this investigation may be viewed on the Commission's electronic docket (EDIS) at http://edis.usitc.gov.

FOR FURTHER INFORMATION CONTACT: Industry-specific information may be obtained from John Reeder, Project Leaders (202-205-3319; john.reeder@usitc.gov), or Joanna Bonarriva, Project Leaders (202-205-3312; joanna.bonarriva@usitc.gov), Office of Industries, United States International Trade Commission, Washington, DC, 20436. For information on the legal aspects of this investigation, contact William Gearhart of the Office of General Counsel (202-205-3091; william.gearhart@usitc.gov). The media should contact Margaret O'Laughlin, Public Affairs Office (202-205-1819; margaret.olaughlin@usitc.gov). Hearing impaired individuals are advised that information on this matter can be obtained by contacting the TDD terminal on (202-205-1810). General information concerning the Commission may also be obtained by accessing its Internet server (http://www.usitc.gov). Persons with mobility impairments who will need special assistance in gaining access to the Commission should contact the Office of the Secretary at 202-205-2000.

SUPPLEMENTARY INFORMATION: As requested by the Committee, the Commission will conduct an investigation and provide a report that contains, to the extent possible, the following information:

• An overview of Cuba's purchases of agricultural, fish and forestry products from, to the extent possible, 2000 to the present, including identification of major supplying countries, products, and market segments;

• An analysis of the effects that U.S. restrictions, including those relating to export financing terms and travel to Cuba by U.S. citizens, may have had or currently have on Cuban purchases of U.S. agricultural, fish, and forestry products; and,

• A qualitative and, to the extent possible, quantitative estimate of U.S. sales of agricultural, fish and forestry products to Cuba, in the event that: (i) Statutory, regulatory, or other restrictions affecting agricultural exports are removed, (ii) statutory, regulatory, or other restrictions on travel to Cuba by U.S. citizens are lifted, and, (iii) statutory, regulatory, or other restrictions affecting agricultural exports are removed and statutory, regulatory or other restrictions on travel to Cuba by U.S. citizens are lifted.

As requested, the Commission will transmit its report to the Committee by June 29, 2007.

Public Hearing: A public hearing in connection with the investigation is scheduled to be held at the U.S. International Trade Commission Building, 500 E Street, SW., Washington, DC beginning at 9:30 a.m. on May 1, 2007. All persons shall have the right to appear, by counsel or in person, to present information and to be heard. Requests to appear at the public hearing should be filed with the Secretary, United States International Trade Commission, 500 E Street, SW., Washington, DC 20436, no later than 5:15 p.m., April 24, 2007. Any pre-hearing briefs (original and 14 copies) should be filed not later than 5:15 p.m., April 26, 2007. The deadline for filing post-hearing briefs or statements is 5:15 p.m., May 8, 2007. In the event that, as of the close of business on April 24, 2007, no witnesses are scheduled to appear at the hearing, the hearing will be canceled. Any person interested in attending the hearing as an observer or non-participant may call the Secretary (202-205-2000) after April 24, 2007, to determine whether the hearing will be held.

Written Statements: In lieu of or in addition to participating in the hearing, interested persons are invited to submit written statements concerning the investigation. All submissions should be addressed to Secretary, United States International Trade Commission, 500 E Street, SW., Washington, DC 20436, and should be received no later than the close of business on May 8, 2007. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except as permitted by section 201.8 of the Commission's Rules (19 CFR 201.8) (see Handbook for Electronic Filing Procedures, http://www.usitc.gov/secretary/fed_reg_notices/rules/documents/handbook_on_electronic_filing.pdf.

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. The Committee has asked that the report that the Commission transmits not contain any confidential business information. Any confidential business information received by the Commission in this investigation and used in preparing the report will not be published in a manner that would reveal the operations of the firm supplying the information.

By order of the Commission.
Issued: April 2, 2007.
Marilyn R. Abbott,
Secretary to the Commission.

[FR Doc. E7-6409 Filed 4-4-07; 8:45 am]

BILLING CODE 7020-02-P